DEPARTMENT OF ENERGY

Federal Energy Regulatory Commission

[Project No. 1061-103]

Pacific Gas and Electric Company; Notice of Waiver Period for Water Quality Certification Application

On August 26, 2021, Pacific Gas and Electric Company submitted to the Federal Energy Regulatory Commission (Commission) a copy of their application for a Clean Water Act section 401(a)(1) water quality certification filed with the California State Water Resources Control Board (California Water Board), in conjunction with the above captioned project. Pursuant to 40 CFR 121.6, we hereby notify the California Water Board of the following:

Date of Receipt of the Certification Request: August 26, 2021.

Reasonable Period of Time to Act on the Certification Request: One year.

Date Waiver Occurs for Failure to Act: August 26, 2022.

If the California Water Board fails or refuses to act on the water quality certification request by the above waiver date, then the agency's certifying authority is deemed waived pursuant to section 401(a)(1) of the Clean Water Act, 33 U.S.C. 1341(a)(1).

Dated: September 7, 2021.
Kimberly D. Bose,
Secretary.

[FR Doc. 2021-19677 Filed 9-10-21; 8:45 am]

BILLING CODE 6717-01-P